DEPARTMENT OF THE INTERIOR

National Park Service

National Register of Historic Places; Notification of Pending Nominations and Related Actions

Nominations for the following properties being considered for listing or related actions in the National Register were received by the National Park Service before March 5, 2010. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by April 8, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Madison County

Merrimack Mill Village Historic District, Alpine St., Triana Blvd., Dunn Dr., Cobb Rd., Drake Ave., & Grote St., Huntsville, 10000172

ARIZONA

Maricopa County

Kerr, Louise Lincoln, House and Studio, 6110 N. Scottsdale Rd., Scottsdale, 10000173

IDAHO

Bingham County

Lincoln Creek Day School, Rich Ln., eight mi. SE of St. Hwy. 91, Fort Hall, 10000174

ILLINOIS

Cook County

Jackson Shore Apartments, 5490 S. Shore Dr., Chicago, 10000175

West Chatham Bungalow Historic District, (Chicago Bungalows MPS) Bounded roughly by S. Perry Ave., (E), 82nd St. (S), S. Stewart Ave. (W), and W. 79th St. (N), Chicago, 10000176

KANSAS

Dickinson County

Rock Island Depot, (Historic Railroad Depots of Arkansas MPS) 200 SE Fifth St., Abilene, 10000177

Pottawatomie County

McKimmons, John, Barn, (Agriculture-Related Resources of Kansas) KS HWY 99, ¼ mile S of Westmoreland or ½ miles N of Hartwich Rd, Westmoreland, 10000178

Rice County

Shay Building, 202 S. Broadway Ave., Sterling, 10000179

Sumner County

Bartlett Arboretum, SW Corner of HWY 55 and Line St., Belle Plaine, 10000180

MISSOURI

Greene County

Producers Produce Company Plant, (Springfield MPS) 501 N. Main Ave., Springfield, 10000181

Livingston County

Chillicothe Industrial Home for Girls, 1500 Third St., Chillicothe, 10000182

MONTANA

Flathead County

Flathead River Bridge, (Montana's Historic Steel Truss Bridges) South end of 4th Ave., Columbia Falls, 10000183

Powder River County

Cheever/Cain Ranch, 8 Trails End Rd., Volberg, 10000184

NEW HAMPSHIRE

Grafton County

Enfield Village Historic District, Main St., U.S. Rte 4, High St., Balti St., Shaker Hill Rd., Wells St., Stevens, Union, & Pillsbury Sts, Shedd & Mill St., Enfield, 10000186

Hillsborough County

Bennington Village Historic District, Antrim Rd., Main St., School St., Cross St., Grancestown Rd., South Bennington Rd., Acre St., Old Stagecoach Rd., Starrett Rd. Bennington, 10000185

Rockingham County

Newington Depot/Toll House/Stationmaster's House, Bloody Point Rd., Newington, 10000187

Pulpit Rock Base-End Station (N. 142), Harbor Defenses of Portsmouth (NH), 9 Davis Rd., Rye, 10000188

OHIO

Cuyahoga County

Grant Deming's Forest Hill Allotment Historic District, Woodward Ave., Lincoln Blvd., Edgehill Rd., Parkway Dr. Redwood Rd., Cleveland Heights, 10000189

Franklin County

Worthington Historic District, Roughly bounded by North, South, Morning, and Evening Sts.,Worthington, 10000190

Hamilton County

Mount Airy Forest, (Historic Resources of the Cincinnati Park and Parkway System 1817-1959) 5083 Colerain Ave., Cincinnati, 10000191

Hocking County

Logan Historic District, Roughly Bounded by Second St., Spring St., Hill St., Keynes Dr. & Culver St., Logan, 10000192

Miami County

Detrick Milling and Distilling Company, 128 W. Broadway, Tipp City, 10000193

Saunders Seed Company, (Historic Industrial Resources of Tipp City, Ohio 1840-1959) 101 W Broadway, Tipp City, 10000194

SOUTH CAROLINA

Greenville County

Allen Temple A.M.E. Church, 109 Green Ave., at intersection with S. Markley St., Greenville, 10000195

VIRGINIA

Charlottesville Independent City

Woolen Mills Village Historic District, Parts of Chesapeake, Market, and other sts. in Charlottesville; parts of Pireus Row and Marchant, Charlottsville, 10000196

WISCONSIN

Door County

Cardy Site, (Paleo-Indian Tradition in Wisconsin MPS) 322 West Spruce St., Sturgeon Bay, 10000197

[FR Doc. 2010-6405 Filed 3-23-10; 8:45 am]

BILLING CODE P